ENVIRONMENTAL PROTECTION AGENCY

[EPA-HQ-OAR-2020-0664; FRL-9893-01-OMS]

Information Collection Request Submitted to OMB for Review and Approval; Comment Request; Emission Guidelines and Compliance Times for Small Municipal Waste Combustion Units Constructed on or Before August 30, 1999 (Renewal)

AGENCY: Environmental Protection Agency (EPA).

ACTION: Notice.

SUMMARY: The Environmental Protection Agency (EPA) has submitted an information collection request (ICR), Emission Guidelines and Compliance Times for Small Municipal Waste Combustion Units Constructed on or Before August 30, 1999 (EPA ICR Number 1901.08, OMB Control Number 2060-0424), to the Office of Management and Budget (OMB) for review and approval in accordance with the Paperwork Reduction Act. This is a proposed extension of the ICR, which is currently-approved through May 31, 2022. Public comments were previously requested, via the Federal Register, on February 8, 2021 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before June 27, 2022.

ADDRESSES: Submit your comments, referencing Docket ID Number EPA-HQ-OAR-2020-0664, to: (1) EPA online using https://www.regulations.gov/ (our preferred method), or by email to docket.oeca@epa.gov, or by mail to: EPA Docket Center, Environmental Protection Agency, Mail Code 28221T, 1200 Pennsylvania Ave. NW, Washington, DC 20460. EPA's policy is that all comments received will be included in the public docket without change including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The Emission Guidelines and Compliance Times for Small Municipal Waste Combustion Units Constructed on or Before August 30, 1999 were originally promulgated in December 1995, but were vacated by the Federal Court in March 1997. Subsequently, the Emission Guidelines were re-proposed on August 30, 1999; and promulgated on December 6, 2000. The Emission Guidelines regulate organics (dioxin/furans), metals (cadmium, lead, mercury), particulate matter, and acid gases (hydrogen chloride, sulfur dioxide, and nitrogen oxides) for small Municipal Waste Combustion (MWC) units. Small MWC units are MWC units with capacities to combust greater than 35 tons per day (tpd) and less than 250 tons per day (tpd) of municipal solid waste. The Emission Guidelines contain monitoring, reporting, and record-keeping requirements that are to be included in state plans. If a State/Local Agency does not develop, adopt, and submit an approvable State plan, then facilities in that state are subject to the Federal Plan (Federal Plan Requirements for Small Municipal Waste Combustion Units Constructed On or Before August 30, 1999 (40 CFR part 62, subpart JJJ)), adopted on January 31, 2003. The Federal Plan implements the emission guidelines in jurisdictions that have not developed an approved State Plan. These regulations do not directly apply to small MWC unit owners and operators. However, MWC unit owners and operators must comply with either the State or Federal plans to implement the emission guidelines contained in this Subpart. This ICR identifies the burden to both respondents (owners or operators of small MWC units) and the Designated Administrator (either state/local agencies or the Federal government) to implement the emission guidelines imposed by the State plans. This information is being collected to assure compliance with 40 CFR part 60, subpart BBBB.

Form Numbers: None.

Respondents/affected entities: Owners or operators of existing small MWC units.

Respondent's obligation to respond: Mandatory (40 CFR 60, subpart BBBB).

Estimated number of respondents: 22 (total).

Frequency of response: Semiannually, annually.

Total estimated burden: Respondent burden is 86,500 hours (per year). State/local agency burden for administering the rule is 770 hours (per year). Burden is defined at 5 CFR 1320.3(b).

Total estimated cost: Respondent cost is $6,130,000 (per year). This includes $422,000 in annualized capital/startup and/or operation & maintenance costs. State/local agency cost is $39,000 per year.

Changes in the Estimates: There is a decrease in burden from the most-recently approved ICR as currently identified in the OMB Inventory of Approved Burdens due to an adjustment in the number of respondents subject to the requirements of Subpart BBBB, which have decreased. This ICR also adjusts the burden to reflect those requirements of Subpart BBBB that are implemented under State plans or a Federal Plan, to incorporate the burden associated with the Federal Plan. The Federal Plan was finalized at 40 CFR part 62, subpart JJJ on January 31, 2003 (68 FR 5158). As of August 20, 2021, EPA data and the listing of approved State plans in the e-CFR indicates that 7 State and local agencies enforce the State plans or have requested and received delegation of enforcement of the Federal Plan. The remainder of the small MWC units will be covered by the Federal Plan, where EPA is the implementing agency. The burden on State and local agencies is included in respondent burden in this ICR, and is similar to the Agency burden in the previous ICR.

Courtney Kerwin,
Director, Regulatory Support Division.

[FR Doc. 2022-11387 Filed 5-26-22; 8:45 am]

BILLING CODE 6560-50-P